DEPARTMENT OF ENERGY

Federal Energy Regulatory Commission

[Docket No. AD25-16-000]

Wildfire Risk Mitigation Technical Conference; Notice of Wildfire Risk Mitigation Technical Conference

Take notice that Federal Energy Regulatory Commission (Commission) staff will convene a Technical Conference to discuss cost-effective best practices to reduce the risk of wildfire ignition from the Bulk-Power System in response to Executive Order 14,308 ¹ on Tuesday, October 21, 2025, from approximately 1:30 p.m.-4:30 p.m. Eastern time after the Relaibility Technical Conference.² The conference will be held in-person at the Commission's headquarters at 888 First Street NE, Washington, DC 20426 in the Kevin J. McIntyre Commission Meeting Room. The meeting will be open to the public for listening and observing and will be on the record. There is no fee for attendance and registration is not required. The public may also attend via Webcast. This conference will also be transcribed. Transcripts will be available for a fee from Ace Reporting, 202-347-3700.

¹ See Exec. Order No. 14,308 (Empowering Commonsense Wildfire Prevention and Response), 90 FR 26175 (June 12, 2025).

² See Notice of Technical Conference, Docket No. AD25-8-000 (issued May 14, 2025).

A supplemental notice will be issued prior to the conference with further details regarding the agenda. Information on this technical conference will also be posted on the Calendar of Events on the Commission's website, www.ferc.gov, prior to the event. The Commission provides technical support for the free webcasts. Please call 202-502-8680 or email customer@ferc.gov if you have any questions.

Commission conferences are accessible under section 508 of the Rehabilitation Act of 1973. For accessibility accommodations, please send an email to accessibility@ferc.gov or call toll free 1-866-208-3372 (voice) or 202-208-8659 (TTY) or send a fax to 202-208-2106 with the required accommodations.

For more information about this conference, please contact Lodie White at Lodie.White@ferc.gov or (202) 502-8453.

Dated: September 10, 2025.
Debbie-Anne A. Reese,
Secretary.

[FR Doc. 2025-17808 Filed 9-15-25; 8:45 am]

BILLING CODE 6717-01-P